DEPARTMENT OF COMMERCE

National Oceanic and Atmospheric Administration

RIN 0648-XG764

Pacific Fishery Management Council; Public Meeting; Cancellation

AGENCY: National Marine Fisheries Service (NMFS), National Oceanic and Atmospheric Administration (NOAA), Commerce.

ACTION: Notice of cancellation of a public meeting.

SUMMARY: The Pacific Fishery Management Council was to hold a methodology review meeting to evaluate and review fishery independent visual survey methodologies, using remotely operate vehicles, for nearshore groundfish species off the states of Oregon and California. The meeting has been cancelled.

DATES: The Pacific Council methodology review meeting was to be held Tuesday, February 12 through Thursday, February 14, 2019.

FOR FURTHER INFORMATION CONTACT: Mr. John DeVore, Staff Officer, Pacific Fishery Management Council; telephone: (503) 820-2413.

SUPPLEMENTARY INFORMATION: The meeting notice published in the Federal Register on February 6, 2018 (84 FR 2171). The meeting will be held at a later date and published in the Federal Register.

Dated: February 6, 2019.
Tracey L. Thompson,
Acting Deputy Director, Office of Sustainable Fisheries, National Marine Fisheries Service.

[FR Doc. 2019-01924 Filed 2-11-19; 8:45 am]

BILLING CODE 3510-22-P